DEPARTMENT OF HEALTH AND HUMAN SERVICES

Indian Health Service

Notice of Listing of Members of the Indian Health Service's Senior Executive Service Performance Review Board (PRB)

AGENCY: Indian Health Service, HHS.

ACTION: Notice; correction of Performance Review Board Membership.

SUMMARY: The Indian Health Service published a notice in the Federal Register on October 14, 2020 listing members of the Indian Health Service's Senior Executive Service Performance Review Board. The membership listing failed to include Mr. Christopher Mandregan as a member of the Performance Review Board.

FOR FURTHER INFORMATION CONTACT: Nathan Anderson, Human Resources Specialist, 5600 Fishers Lane, Rockville, MD 20857, Phone: (605) 681-4940.

Correction

In the FR notice of October, 14, 2020, (85 FR 65062), the correction is to the alphabetical listing of Performance Review Board members:

Buchanan, Chris

Cooper, Jennifer

Cotton, Beverly

Curtis, Jillian

Driving Hawk, James

Grinnell, Randy (Chair)

Gyorda, Lisa

LaRoche, Darrell

Mandregan, Christopher

Redgrave, Bryce

Smith, Ben

Tso, Roselyn

In alphabetical order, Mr. Christopher Mandregan should be listed as a member of the Indian Health Service Performance Review Board. Membership should read as:

• Mandregan, Christopher

The other members listed remain as originally published.

Michael D. Weahkee,
Assistant Surgeon General, RADM, U.S. Public Health Service, Director, Indian Health Service.

[FR Doc. 2020-23713 Filed 10-26-20; 8:45 am]

BILLING CODE 4165-16-P